DEPARTMENT OF AGRICULTURE

Animal and Plant Health Inspection Service

7 CFR Part 301

[Docket No. APHIS-2009-0079]

Karnal Bunt; Regulated Areas in Arizona, California, and Texas

Correction

In rule document 2010-28347 beginning on page 68942 in the issue of Wednesday, November 10, 2010, make the following corrections:

§ 301.89-3 [Corrected]

1. On page 68945, in § 301.89-3 paragraph (g), in the first column, under the California heading, in the 13th line, “114.647877” should read “-114.647877”.

a. In the second column, in the 20th line from the top, “114.603889” should read “-114.603889”.

b. In the 29th line from the bottom, “D10-11” should read “D-10-11”.

c. In the 26th line from the bottom, “D10-11” should read “D-10-11”.

d. In the 21st line from the bottom, “114.623143” should read “-114.623143”.

e. In the first line from the bottom, “114.961526” should read “-114.961526”.

[FR Doc. C1-2010-28347 Filed 11-18-10; 8:45 am]

BILLING CODE 1505-01-D